DEPARTMENT OF COMMERCE

National Oceanic and Atmospheric Administration

Availability of Seats for National Marine Sanctuary Advisory Councils

AGENCY: Office of National Marine Sanctuaries (ONMS), National Ocean Service (NOS), National Oceanic and Atmospheric Administration (NOAA), Department of Commerce (DOC).

ACTION: Notice and request for applications.

SUMMARY: ONMS is seeking applications for vacant seats for 7 of its 13 national marine sanctuary advisory councils and for the Northwestern Hawaiian Islands Coral Reef Ecosystem Reserve Advisory Council (advisory councils). Vacant seats, including positions (i.e., primary member and alternate), for each of the advisory councils are listed in this notice under Supplementary Information. Applicants are chosen based upon their particular expertise and experience in relation to the seat for which they are applying; community and professional affiliations; views regarding the protection and management of marine or Great Lake resources; and possibly the length of residence in the area affected by the sanctuary. Applicants who are chosen as members or alternates should expect to serve two- or three year terms, pursuant to the charter of the specific national marine sanctuary advisory council or the Northwestern Hawaiian Islands Coral Reef Ecosystem Reserve Advisory Council.

DATES: Applications are due by September 30, 2014.

ADDRESSES: Application kits are specific to each advisory council. As such, application kits must be obtained from and returned to the council-specific addresses noted below.

• Cordell Bank National Marine Sanctuary Advisory Council: Lilli Ferguson, Cordell Bank National Marine Sanctuary, P.O. Box 159, Olema, CA 94950; (415) 663-0314 extension 107; email Lilli.Ferguson@noaa.gov; or download application from http://cordellbank.noaa.gov.

• Florida Keys National Marine Sanctuary Advisory Council: Beth Dieveney, Florida Keys National Marine Sanctuary, 33 East Quay Rd., Key West, FL 33040; (305) 809-4700 extension 228; email Beth.Dieveney@noaa.gov; or download application from http://floridakeys.noaa.gov/sac/welcome.html?s=sac.

• Flower Garden Banks National Marine Sanctuary Advisory Council: G.P. Schmahl, Flower Garden Banks National Marine Sanctuary, 4700 Avenue U, Bldg. 216, Galveston, TX 77551; (409) 621-5151 extension 102; email George.Schmahl@noaa.gov; or download application from http://flowergarden.noaa.gov/advisorycouncil/councilnews.html.

• Gray's Reef National Marine Sanctuary Advisory Council: Becky Shortland, Gray's Reef National Marine Sanctuary, 10 Ocean Science Circle, Savannah, GA 31411; (912) 598-2381; email Becky.Shortland@noaa.gov; or download application from http://graysreef.noaa.gov/management/sac/welcome.html.

• Monitor National Marine Sanctuary Advisory Council: Shannon Ricles, Monitor National Marine Sanctuary, 100 Museum Drive, Newport News, VA 23606; (757) 591-7328; email Shannon.Ricles@noaa.gov; or download application from http://monitor.noaa.gov.

• National Marine Sanctuary of American Samoa Advisory Council: Joseph Paulin, National Marine Sanctuary of American Samoa, Tauese P.F. Sunia Ocean Center, Utulei, American Samoa; (684) 633-6500; email Joseph.Paulin@noaa.gov; or download application from http://americansamoa.noaa.gov.

• Northwestern Hawaiian Islands Coral Reef Ecosystem Reserve Advisory Council: Hoku Johnson, NOAA Inouye Regional Center, NOS/ONMS/PMNM, 1845 Wasp Blvd., Building 176, Honolulu, HI 96818; (808) 725-5800; email Hoku.Johnson@noaa.gov; or download application from http://www.papahanaumokuakea.gov/council/.

• Stellwagen Bank National Marine Sanctuary: Elizabeth Stokes, NOS/ONMS/SBNMS, 175 Edward Foster Road, Scituate, MA 02066; (781) 545-8026 extension 201; email Elizabeth.Stokes@noaa.gov; or download application from http://stellwagen.noaa.gov/.

FOR FURTHER INFORMATION CONTACT: For further information on a particular national marine sanctuary advisory council, please contact the individual identified in the Addresses section of this notice.

SUPPLEMENTARY INFORMATION: ONMS serves as the trustee for 14 marine protected areas encompassing more than 170,000 square miles of ocean and Great Lakes waters from the Hawaiian Islands to the Florida Keys, and from Lake Huron to American Samoa. National marine sanctuaries protect our Nation's most vital coastal and marine natural and cultural resources, and through active research, management, and public engagement, sustains healthy environments that are the foundation for thriving communities and stable economies. One of the many ways ONMS ensures public participation in the designation and management of national marine sanctuaries is through the formation of advisory councils. National marine sanctuary advisory councils are community-based advisory groups established to provide advice and recommendations to the superintendents of the national marine sanctuaries and the Papahanaumokuakea Marine National Monument on issues including management, science, service, and stewardship; and to serve as liaisons between their constituents in the community and the sanctuary. Additional information on ONMS and its advisory councils can be found at http://sanctuaries.noaa.gov. Information related to the purpose, policies and operational requirements for advisory councils can be found in the charter for a particular advisory council (http://sanctuaries.noaa.gov/management/ac/council_charters.html) and the National Marine Sanctuary Advisory Council Implementation Handbook (http://www.sanctuaries.noaa.gov/management/ac/acref.html).

The following is a list of the vacant seats, including positions (i.e., primary member or alternate), for each of the advisory councils currently seeking applications for members and alternates:

Cordell Bank National Marine Sanctuary Advisory Council: Community-at-Large-Marin (primary member); and Research (primary member).

Florida Keys National Marine Sanctuary Advisory Council: Citizen at Large-Lower Keys (primary member and alternate); Conservation and Environment (primary member and alternate); Diving-Lower Keys (primary member and alternate); Fishing-Charter Flats Fishing Guide (primary member and alternate); South Florida Ecosystem Restoration (primary member and alternate); and Fishing-Commercial-Marine/Tropical (primary member).

Flower Garden Banks National Marine Sanctuary Advisory Council: Diving Operations (two primary members); Recreational Diving (primary member); and Commercial Fishing (primary member).

Gray's Reef National Marine Sanctuary Advisory Council: Citizen-at-large (primary member).

Monitor National Marine Sanctuary Advisory Council: Recreational/Commercial Fishing (two primary members); and Youth (primary member).

National Marine Sanctuary of American Samoa Advisory Council: Community-At-Large, Manu 'a (primary member); Community-At-Large, Aunu 'u (primary member),· Youth Member (primary member).

Northwestern Hawaiian Islands Coral Reef Ecosystem Reserve Advisory Council: Native Hawaiian (alternate); and Native Hawaiian Elder (alternate).

Stellwagen Bank National Marine Sanctuary Advisory Council: At-Large (alternate); Conservation (two alternates); Maritime Heritage (primary member and alternate); and Mobile Gear Commercial Fishing (alternate).

Authority: 16 U.S.C. 1431, et seq.

(Federal Domestic Assistance Catalog Number 11.429 Marine Sanctuary Program).

Dated: July 21, 2014.
Daniel J. Basta,
Director, Office of National Marine Sanctuaries, National Ocean Service, National Oceanic and Atmospheric Administration.

[FR Doc. 2014-19235 Filed 8-14-14; 8:45 am]

BILLING CODE 3510-NK-P